DEPARTMENT OF HEALTH AND HUMAN SERVICES

Centers for Disease Control and Prevention

[30Day-09-0669]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-5806. Written comments should be received within 30 days of this notice.

Proposed Project

Evaluation of State Nutrition and Physical Activity Programs to Prevent Obesity and Other Chronic Diseases [OMB# 0920-0669 exp. 6/30/2011]—Revision—National Center for Chronic Disease Prevention and Health Promotion (NCCDHP), Centers for Disease Control and Prevention (CDC).

Background and Brief Description

In order to prevent and control obesity and other chronic diseases, CDC established state-based nutrition and physical activity programs to support the development and implementation of nutrition and physical activity interventions, particularly through population-based strategies such as policy-level changes, environmental supports and the social marketing process. The overall programmatic goal is to promote population-based behavior change, such as increased physical activity and better dietary habits, thus leading to a reduction in the prevalence of obesity, and ultimately to a reduction in the prevalence of chronic diseases. CDC funding for state nutrition and physical activity programs may be used for capacity building, collaboration, planning, monitoring the burden of obesity, intervention, and evaluation.

CDC is currently approved to collect information from funded states as described in “Evaluation of State Nutrition and Physical Activity Programs to Prevent Obesity and Other Chronic Diseases” (OMB no. 0920-0669, exp. date 06/30/2011). The evaluation framework for the information collection was designed to focus on recipient activities as outlined in the original funding announcement. Since that time, CDC reissued the cooperative agreement with minor adjustments to program focus and reporting requirements. In the current Revision request, CDC proposes to implement changes to the information collection which reflect those adjustments. Planned modifications include: collection of additional data items pertaining to “success stories” and two new behavioral target areas (consumption of sugar-sweetened beverages and consumption of high energy-dense foods); deletion of questions that are no longer relevant; wording changes to improve clarity; and minor changes to the response categories for some questions. CDC also proposes a new, simplified title for the OMB Information Collection Request: “Monitoring State Nutrition, Physical Activity and Obesity Programs.”

CDC anticipates an overall reduction in burden based on a reduction in the number of respondents, reduction of the estimated burden per response, and reduction in the frequency of information (from a semi-annual schedule to an annual schedule). OMB approval is requested for three years. There are no costs to the respondents other than their time. The total estimated annualized burden hours are 250.

Estimated Annualized Burden Hours
Type of respondents | Number of respondents | Number of responses per respondent | Average burden per response (in hours)
State Awardees | 25 | 1 | 10

Date: September 9, 2009.
Maryam I. Daneshvar,
Acting Reports Clearance Officer, Centers for Disease Control and Prevention.

[FR Doc. E9-22374 Filed 9-16-09; 8:45 am]

BILLING CODE 4163-18-P